DEPARTMENT OF COMMERCE

National Oceanic and Atmospheric Administration

[RTID 0648-XC914]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three-day in-person meeting of its Standing, Reef Fish, Socioeconomic, and Ecosystem Scientific and Statistical Committees (SSC).

DATES: The meeting will be held Tuesday, May 2 through Thursday, May 4, 2023, from 8:30 a.m. to 5 p.m., EDT on Tuesday and Wednesday and 8:30 a.m. to 1 p.m., EDT on Thursday.

ADDRESSES: The meeting will take place at the Gulf Council office. Registration information will be available on the Council's website by visiting www.gulfcouncil.org and clicking on the “meeting tab”.

Council address: Gulf of Mexico Fishery Management Council, 4107 W. Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Tuesday, May 2, 2023; 8:30 a.m.-5 p.m., EDT

The meeting will begin with Introductions and Adoption of Agenda, Approval of Verbatim Minutes and Meeting Summary from the March 7-9, 2023, meeting, and a review of the Scope of Work. The Committees will select an SSC Representative for the June 5-8, 2023, Gulf Council meeting in Mobile, AL.

Following, the Committees will receive a report from the Marine Recreational Information Program (MRIP) Transition Team on Red Snapper and Other Species in Gulf State Supplements Surveys; evaluate the Interim Analysis Process; and, review Queen Snapper, Silk Snapper and Blackfin Snapper landings and consider revised catch limits. Presentations and other background materials will be provided to support SSC discussion.

The Committees will then review Black Grouper and Yellowfin Grouper landings and consider revised catch limits, and review a Gulf of Mexico Ecosystem Model (GoMEM) to Support Fisheries Management; presentations and background documentation and references will be provided to support SSC discussion. Public comment will be heard at the end of the day.

Wednesday, May 3, 2023; 8:30 a.m.-5 p.m., EDT

The Committees will hold a Management Strategy Evaluation (MSE) Workshop all day; reviewing a Primer, Techniques and Considerations; Flavors of MSE; South Atlantic Fishery Management Council (SAFMC) MSE approach; Southeast Fishery Science Center's MSE Approach and Interim Analyses; an international MSE approach with the International Commission for the Conservations of Atlantic Tunas for Bluefin Tuna; and, the Magnuson-Stevens Act, MSE, and the Possible Role of the SSC. The Committees will then receive public comment at the end of the day, if any.

Thursday, May 4, 2023; 8:30 a.m.-1 p.m., EDT

The Committees will discuss the previous day's Management Strategy Evaluation Workshop, review the SHELF Fish Egg Monitoring Program, and then the Scope of Work for the upcoming Gray Triggerfish Stock Assessment; background materials will be provided for these items to support SSC Discussion.

The Committees will receive public comment before addressing any items under Other Business.

—Meeting Adjourns

The meeting will also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: April 11, 2023.
Rey Israel Marquez,
Acting Deputy Director, Office of Sustainable Fisheries, National Marine Fisheries Service.

[FR Doc. 2023-07898 Filed 4-13-23; 8:45 am]

BILLING CODE 3510-22-P